DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 9, 2002.

Interested persons are invited to submit written comments regarding the subject matter of the investigations to the Director, Division of Trade Adjustment Assistance, at the address shown below, not later than December 9, 2002.

The petitions filed in this case are available for inspection at the Office of the Director, Division of Trade Adjustment Assistance, Employment and Training Administration, U.S. Department of Labor, Room C-5311, 200 Constitution Avenue, NW., Washington, DC 20210.

Signed at Washington, DC this 21st day of October, 2002.
Edward A. Tomchick,
Director, Division of Trade Adjustment Assistance.

Appendix
[Petitions Instituted on 10/21/2002]
TA-W | Subject firm (petitioners) | Location | Date of petition | Product(s)
42,252 | Leslie Fay Marketing, Inc (UNITE) | New York, NY | 10/11/2002 | dresses.
42,253 | Fleming Lumber Co., Inc. (Comp) | Milligan, FL | 10/09/2002 | kiln dried lumber.
42,254 | American Fibers and Yarns (Wkrs) | Rocky Mount, NC | 09/30/2002 | yarn, upholstery material, rayon.
42,255 | Waltec Forgings, Inc. (Comp) | Port Huron, MI | 09/30/2002 | non-ferrous forgings, valve.
42,256 | Jackson Sewing Center (Wkrs) | Madisonville, TN | 10/02/2002 | sewed upholstery fabric.
42,257 | Arnold Engineering Co. (IAM) | Marengo, IL | 10/01/2002 | torroidal cores.
42,258 | Joan Fabrics Corporation (Wkrs) | Hickory, NC | 09/18/2002 | textiles for furniture manufacturers.
42,259 | Colabria Fashions, Inc. (UNITE) | New Rochelle, NY | 10/11/2002 | ladies' apparel.
42,260 | Miss Dorby (UNITE) | New York, NY | 10/09/2002 | women's dresses.
42,261 | Eybl Cartex, Inc. (Comp) | Fountain Inn, SC | 10/02/2002 | knitted velour fabric.
42,262 | Pollak (Comp) | Boston, MA | 10/02/2002 | door lock actuators.
42,263 | Arkansas Metal Castings (Comp) | Ft. Smith, AR | 10/04/2002 | grey and ductile iron castings.
42,264 | ASCG Inspection, Inc. (Comp) | Anchorage, AK | 10/02/2002 | testing inspection services.
42,265 | Streamline Fashions (Comp) | Philipsburg, PA | 10/02/2002 | men's suit jackets.
42,266 | Presto Manufacturing Co. (IBEW) | Jackson, MS | 10/03/2002 | non-commercial small kitchen appliances.
42,267 | Simula Automotive Safety (Comp) | Tempe, AZ | 09/20/2002 | side impact head airbag.
42,268 | Frazer and Jones Co. (LWAIUE) | Syracuse, NY | 10/02/2002 | mine anchors, contract castings.
42,269 | Acterna (Comp) | Indianapolis, IN | 10/04/2002 | test equipment for telecommunications.
42,270 | Dixon Ticonderoga Co. (Comp) | Sandusky, OH | 10/07/2002 | crayons.
42,271 | Uniek Inc. (Comp) | Greenwood, MS | 09/30/2002 | wooden picture frames.
42,272 | Mountain Fir Chip Co (Comp) | The Dalles, OR | 10/01/2002 | wood chips.
42,273 | General Mills Bakeries (Comp) | Hillsdale, MI | 09/30/2002 | prepared bakery mixes.
42,274 | Angelica Image Apparel (Wrks) | Alamo, TN | 10/04/2002 | garment distribution.
42,275 | ESAB Group (The) (Wkrs) | Niagara Falls, NY | 10/02/2002 | bonded and flux for welding products.
42,276 | Koei America, Inc (Wkrs) | Hillsboro, OR | 10/02/2002 | electronic components for semiconductors.

[FR Doc. 02-30058 Filed 11-26-02; 8:45 am]

BILLING CODE 4510-30-M